DEPARTMENT OF THE INTERIOR

Bureau of Land Management

[OR-958-6333-ET, GP0-0249; OR-55655]

Notice of Proposed Withdrawal, Oregon

AGENCY: Bureau of Land Management, Interior.

ACTION: Notice.

SUMMARY: The Bureau of Land Management proposes to withdraw 17,056.18 acres of public lands and 680 acres of non-federal lands, if acquired, to protect the Diamond Craters Outstanding Natural Area and Area of Critical Environmental Concern. This notice closes the public lands for up to two years from surface entry and mining. The public lands will remain open to mineral leasing.

DATES: Comments must be received by July 25, 2000.

ADDRESSES: Comments should be sent to the Burns District Manager, Burns District Office, HC 74-12533 Hwy 20 West, Hines, Oregon 97738.

FOR FURTHER INFORMATION CONTACT: Skip Renchler, BLM, Burns District Office, 514-573-4443.

SUPPLEMENTARY INFORMATION: On May 22, 2000, a petition/application was approved allowing the Bureau of Land Management to consider withdrawing the Diamond Craters Outstanding Natural Area and Area of Critical Environmental Concern from settlement, sale, location, or entry under the general land laws, including the mining laws, subject to valid existing rights. The application includes lands previously withdrawn by Public Land Order 5822 on January 22, 1981, as described in the Federal Register Volume 46, page 6947, and the following additional lands:

Willamette Meridian

Federal Lands

T. 28 S., 31 E.,

Sec. 36, SE¼NE¼, NE¼SE¼.

T. 28 S., R. 32 E.,

Sec. 36 W½.

Non-Federal Lands

T. 28 S., R. 31 E.,

Sec. 36, SE¼SE¼.

T. 28 S., R. 32 E.,

Sec. 16, E½;

Sec. 36, W½NE¼, NW¼, SW¼.

The lands described above aggregate 1,080 acres in Harney County.

All persons who wish to submit comments, suggestions, or objections in connection with the proposed withdrawal may present their views in writing to the District Manager, Burns District at the above address on or before July 25, 2000.

The application will be processed in accordance with the regulations set forth in 43 CFR 2300.

For a period of 2 years from the date of publication of this notice in the Federal Register, the lands will be segregated as specified above unless the application is denied, canceled or the withdrawal is approved prior to that date. The temporary uses which may be permitted during this segregative period are leases, licenses, permits, rights-of-way, and disposal of vegetative resources other than the mining laws.

Dated: June 9, 2000.
Robert D. DeViney, Jr.,
Chief, Branch Realty and Records Services.

[FR Doc. 00-15781 Filed 6-21-00; 8:45 am]

BILLING CODE 4310-33-P